DEPARTMENT OF THE INTERIOR

Bureau of Land Management

[BLM_ID_FRN_MO4500168909]

Opportunity To Comment on Changes to the Proposed Four Rivers Field Office Resource Management Plan, Idaho

AGENCY: Bureau of Land Management, Interior.

ACTION: Notice of significant change.

SUMMARY: The Bureau of Land Management (BLM) is soliciting comments on clarifications and significant changes (collectively `changes') to the Proposed Four Rivers Field Office Resource Management Plan (RMP) and Final Environmental Impact Statement (EIS) released in February 2020. The environmental consequences of the proposed changes and clarifications have been analyzed as part of the RMP/EIS process. Following consideration of any comments on these changes, the BLM will issue a Record of Decision (ROD) for the Four Rivers Field Office RMP.

DATES: Written comments on the changes to the proposed plan will be accepted June 7, 2023.

ADDRESSES: You may submit comments by any of the following methods:

• e-planning: https://eplanning.blm.gov/eplanning-ui/project/1250/510.

• Fax: (208) 384-3326.

• Mail: BLM Four Rivers Field Office, Attn: Lonnie Huter, Planning and Environmental Coordinator, 3948 Development Avenue, Boise, ID 83705.

FOR FURTHER INFORMATION CONTACT: Lonnie Huter, Planning and Environmental Coordinator, telephone: (208) 384-3300; address: BLM Four Rivers Field Office, 3948 Development Avenue, Boise, ID 83705; email: Lhuter@blm.gov. Individuals in the United States who are deaf, deafblind, hard of hearing, or have a speech disability may dial 711 (TTY, TDD, or TeleBraille) to access telecommunications relay services for contacting Mr. Huter. Individuals outside the United States should use the relay services offered within their country to make international calls to the point-of-contact in the United States.

SUPPLEMENTARY INFORMATION: The Environmental Protection Agency (EPA) published the Notice of Availability (NOA) for the Draft RMP and EIS on May 24, 2019, which initiated a 60-day public comment period. The EPA published the NOA for the Proposed RMP and Final EIS on February 14, 2020, which initiated a 30-day BLM protest period and 60-day Governor's consistency review period. The BLM received eight protest letters. In response to new information and based on additional policy discussions, the BLM has determined that it will clarify and make changes to the proposed plan.

The clarifications and changes will include separating the fluid mineral allocation management action into two allocation management actions—one for oil and gas and one for geothermal. The allocation will identify additional `closed' areas for oil and gas leasing and development. In addition, one fluid mineral management action regarding prioritization of mineral leasing within high potential areas will be added. There are also other minor clarifications and editorial corrections. This notice initiates a 30-day public comment period on the changes and clarifications (43 CFR 1610.2(e)).

These changes will reduce the potential for speculative oil and gas exploration in areas with low or no potential for oil and gas. The Proposed RMP/EIS contains a Reasonably Foreseeable Development Scenario (RFDS) for oil and gas exploration, development, production, and reclamation activity. The RFDS provides the basis for the effects analysis described in the Draft and Proposed RMP. Since oil and gas development was projected to occur in high and moderate oil and gas potential areas, and since these areas retain the same allocation management action as in the Proposed RMP, the effects of the revised management actions are the same as those described within the effects analysis included in the Proposed RMP.

Before including your address, telephone number, email address, or other personal identifying information in your comment, be advised that your entire comment—including your personal identifying information—may be made publicly available at any time. While you can ask us in your comment to withhold your personal identifying information from public review, we cannot guarantee that we will be able to do so. Further information regarding the changes can be found at https://eplanning.blm.gov/eplanning-ui/project/1250/510.

(Authority: 43 CFR 1610.2.)

Karen Kelleher,
BLM Idaho State Director.

[FR Doc. 2023-09740 Filed 5-5-23; 8:45 am]

BILLING CODE 4331-19-P